DEPARTMENT OF JUSTICE

Notice of Lodging of Proposed Consent Decree Under the Comprehensive Environmental Response, Compensation, and Liability Act

On April 18, 2024, the Department of Justice lodged a proposed Consent Decree with the United States District Court for the Middle District of Florida in the lawsuit entitled United States v. General Dynamics Corporation, et al., Civil Action No. 6:24-cv-00722. In the filed Complaint, the United States, on behalf of the U.S. Environmental Protection Agency (“EPA”), alleges that the Defendants are liable under the Comprehensive Environmental Response, Compensation, and Liability Act, 42 U.S.C. 9606 and 9607(a), for the releases and/or threatened releases of hazardous substances into the environment at the General Dynamics Longwood Superfund Site located at 1333 North U.S. Highway 17-92 Road in Longwood, Seminole County, Florida, which the Defendants owned and operated. The Consent Decree requires the Defendants to perform a Remedial Design and Remedial Action for the Site, reimburse EPA for its past response costs for the Site, and pay future costs related to the work. The estimated cost of the Remedial Design and Remedial Action is $560,784.

The publication of this notice opens a period for public comment on the Consent Decree. Comments should be addressed to the Assistant Attorney General, Environment and Natural Resources Division, and should refer to United States v. General Dynamics Corporation et al., D.J. Ref. No. 90-11-3-12834. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Scott Bauer,
Assistant Section Chief, Environmental Enforcement Section, Environment and Natural Resources Division.

[FR Doc. 2024-08901 Filed 4-24-24; 8:45 am]

BILLING CODE 4410-15-P